GENERAL SERVICES ADMINISTRATION

[OMB Control No. 3090-0291; Docket No. 2010-0002; Sequence 19]

Submission for OMB Review; OMB Control No. 3090-0291; FSRS Registration and Prime Awardee Entity-Related Information Reporting Requirements

AGENCY: Office of Technology Strategy/Office of Governmentwide Policy, General Services Administration (GSA).

ACTION: Notice of request for public comments regarding a new OMB information clearance.

SUMMARY: Under the provisions of the Paperwork Reduction Act of 1995 (44 U.S.C. chapter 35), the Regulatory Secretariat will be submitting to the Office of Management and Budget (OMB) a request to review and approve an emergency new information collection requirement regarding FSRS Registration and Prime Awardee Entity-Related Information Reporting Requirements.

Public comments are particularly invited on: Whether this collection of information is necessary for the proper performance of functions of the FSRS Registration and Prime Awardee Entity-Related Information Reporting Requirements, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before February 28, 2011.

ADDRESSES: Submit comments identified by Information Collection 3090-0291, FSRS Registration and Prime Awardee Entity-Related Information by any of the following methods:

• Regulations.gov: http://www.regulations.gov. Submit comments via the Federal eRulemaking portal by inputting “Information Collection 3090-0291, FSRS Registration and Prime Awardee Entity-Related Information Reporting Requirements” under the heading “Enter Keyword or ID” and selecting “Search”. Select the link “Submit a Comment” that corresponds with “Information Collection 3090-0291, FSRS Registration and Prime Awardee Entity-Related Information Reporting Requirements.” Follow the instructions provided at the “Submit a Comment” screen. Please include your name, company name (if any), and “Information Collection 3090-0291, FSRS Registration and Prime Awardee Entity-Related Information Reporting (line up with left margin) Requirements” on your attached document.

• Fax: 202-501-4067.

• Mail: General Services Administration, Regulatory Secretariat (MVCB), 1275 First Street, NE., Washington, DC 20417. ATTN: Hada Flowers/IC 3090-0291.

Instructions: Please submit comments only and cite Information Collection 3090-0291, FSRS Registration and Prime Awardee Entity-Related Information Reporting Requirements, in all correspondence related to this collection. All comments received will be posted without change to http://www.regulations.gov, including any personal and/or business confidential information provided.

FOR FURTHER INFORMATION CONTACT: Ms. Janice Miller, Program Analyst, Office of Technology Strategy/Office of Governmentwide Policy, GSA, at jan.miller@gsa.gov.

SUPPLEMENTARY INFORMATION:

A. Purpose

The Federal Funding Accountability and Transparency Act of 2006, Public Law 109-282 (Transparency Act) requires information disclosure of entities receiving Federal financial assistance through Federal awards such as Federal contracts, sub-contracts, grants and sub-grants, FFATA § 2(a), (2), (i), (ii). Beginning October 1, 2010, this Paperwork Reduction Act submission directs compliance with the Transparency Act to report prime and first-tier sub-award data. Federal agencies and prime awardees will ensure disclosure of Federal contract and grant sub-award and compensation data. This information collection requires information necessary for prime awardee registration into the FFATA Subaward Reporting System (FSRS) and review of its entity-related information, at http://www.fsrs.gov. An entity may be required to provide information to include:

• DUNS number.

• Name and address of entity.

• Parent DUNS number.

• Federal Award Identification Number (FAIN).

• CFDA Number.

• Federal Awarding Agency of the Grant.

If a prime awardee has already registered in the system to report contracts-related Transparency Act financial data, a new log-in will not be required.

B. Discussion of Public Comments

Burden Imposed. Two comments were received on the burden imposed by this information collection. One respondent commented that it appears from the precision of the data used to identify the number of respondents (49,308) GSA is relying on a specific source rather than simply estimating a number. Because there is no identification about where these data on respondents comes from, it is virtually impossible to assess whether they are accurate or based on valid assumptions and methodologies. The respondent requests that GSA and OMB publish additional information about the sources of data in this request so that they can be assessed in accordance with the letter and spirit of the Paperwork Reduction Act. The respondent also added that the simple round number of .5 hours per response identified in the estimate belies the effort that they and other similarly situated organizations would be required to undertake. One respondent requested that the burden estimate be re-evaluated.

Response: The number of respondents (49,308) is based on the total reported prime grant awardees reporting into USAspending.gov in FY 2009 (see Supporting Statement for Paperwork Reduction Act Submission, FSRS Registration and Prime Awardee Entity-Related Information, footnote #1, p. 10, at http://www.reginfo.gov). The burden time of .5 hour per response was based on the assumption that prime grant awardees are already required to be registered in the Central Contractor Registration (CCR). With a direct feed from CCR, FSRS pulls information associated with the prime awardee's DUNS number. Pre-populating entity data from CCR into FSRS significantly reduces the burden associated with a prime recipient's registration into FSRS. As a result, prime grant awardees will only be required to manually input a minimal amount of contact information when registering in FSRS.

Multiple Recipients. One comment was received expressing concern with the reporting and pre-population of fields and the ability to list multiple subawards on a single Federal award (FAIN) which is common on awards supporting clinical trials. The ability to create and submit a single report rather than submitting each subaward separately will be an important functionality for some grantees. The respondent also states that the batch-file reporting is particularly important if only one FSRS report per FAIN can be submitted during a single 30-day reporting period.

Response: Both requested capabilities already exist in FSRS: A FFATA subaward report can contain multiple subawards against a single Federal award (as reported by Federal Award Identifier Number or FAIN). In fact, the FFATA subaward report should contain all subaward activity for that report month for that particular FAIN. There are also three methods for submitting multiple FFATA subaward reports: A batch upload template using Microsoft Excel, an XML report submission template and an XML web service. Technical documentation can be found on all three multiple report submission methods and on FSRS functionality on the Resources page from within the FSRS Web site or by direct link to https://www.fsrs.gov/resources.

Batch-File Submission. One respondent stated that the capability of uploading data from a batch file into FSRS does not take advantage of the agency and CCR data available as it does when entering data through the Web site. The batch file would need to include not only all of the local data, but all of the CCR and agency data would need to be entered locally as well in order to complete the report. Therefore, there is no pre-population advantage. The respondent urged that the batch-file process be modified to take advantage of the CCR and agency systems and eliminate the need to re-key data, such that the data sets needed to complete the report would be the same whether filed via batch or Web site data entry.

Response: There are three methods for submitting multiple FFATA subaward reports: A batch upload template using Microsoft Excel, an XML report submission template and an XML web service. These methods do take advantage of the system interfaces with CCR and the agencies' reported award data. Technical documentation can be found on all three multiple report submission methods and on FSRS functionality on the Resources page from within the FSRS Web site or by direct link to https://www.fsrs.gov/resources.

Foreign Entities as Subrecipients. Two comments were received stating that the value of the DUNS approach is less clear when working with foreign entities as subrecipients. These entities may or may not have a DUNS number and may or may not have ready access to apply for a DUNS number. One respondent stated that because of poor infrastructure, the telecommunication required to process a DUNS registration would prove very problematic, and that there is a vast difference between feasible reporting requirements for a municipality in the U.S. and for a small community of self-help organizations operating in a remote region of Africa. The respondent expressed concern regarding requiring local partner organizations to obtain a DUNS number and that posting of their data on a public website may pose unacceptable security risks for them. One respondent noted that the Final Guidance concerning Financial Assistance Use of Universal Identifier and Central Contractor Registration (2 CFR subtitle A, chapter 1, and part 25) requires subrecipients to obtain a DUNS number but an agency can exempt entities from the requirement in certain circumstances [§ 25.110(d)] with the caution that such exemptions should be rare. The respondent believes that agencies may need to exercise this authority more frequently than anticipated by OMB in the case of foreign subrecipients. The respondent urged OMB to consider giving agencies the option to apply the exemption from obtaining a DUNS number for foreign recipients at any value (values greater than $25,000), and that agencies should be directed to describe how an exemption under any of the conditions is obtained by the prime recipient.

Response: Based on OMB guidance, FSRS requires a valid DUNS number be used to (1) register as a prime grant awardee to report subaward activity in FSRS; and (2) report a subawardee. Without a valid DUNS number, subaward reporting cannot occur. Currently, 2 CFR Subtitle A, Chapter A Part 25 does allow for agency exemptions in certain circumstances. In those instances, agencies would not be able to report subaward activity in FSRS. GSA and OMB recognize the safety and security concerns regarding some types of foreign recipients and will provide additional guidance regarding the reporting of sensitive information. Any revisions to the requirements based on this guidance will be incorporated in a subsequent Paperwork Reduction Act submission for this information collection.

Foreign Assistance Awards—Data Elements. Four respondents suggested that the data collection fields and forms be reviewed to take into consideration foreign assistance awards. For example, as these programs are not conducted within U.S. congressional districts, the “principal place of performance” data field on the Prime Award Data Elements form could be modified to include a checkbox to make “overseas” if the purpose of the award is foreign assistance and the principal place of performance is not within the U.S. One respondent commented that the granularity of the notices is not a helpful or useful snapshot of how the U.S. Government is spending taxpayer dollars in development programs, and that additional elements would need to be added to the database in order to (1) maintain the accuracy of the information entered; (2) reduce misconceptions; and (3) ensure the safety of staff in politically sensitive countries.

Response: With a direct feed from USAspending.gov, FSRS displays the prime award data as reported by the awarding Federal agency. For subaward information, FSRS is able to accept foreign recipient locations and/or project place of performance. When completing an editable location field, the prime awardee selects “Non-US” from the State drop-down menu. When Non-US is selected for State, then a non-United States country must be selected and the zip code field and the congressional district become optional. With some limited exceptions, the reporting requirements apply to all prime awardees of Federal grants, including foreign prime recipients and foreign subawardees. Please refer to the data definitions found on the Resources page from within the FSRS Web site or by direct link to https://www.fsrs.gov/resources for more information on the data elements themselves. Contact your awarding agency with any specific questions regarding applicability.

Purpose of the Information Collection Request. One respondent asked what this ICR really does and why was it an emergency new information collection requirement.

Response: This information collection requires information necessary for prime awardee registration into the FFATA Subaward Reporting System (FSRS) and the review of its entity-related information. Emergency review and clearance of this new information collection requirement is essential to the implementation of the Federal Funding Accountability and Transparency Act (“FFATA” or “Transparency Act”). Without OMB approval, prime grant awardees would not have been able to report subaward and executive compensation data pursuant to the Transparency Act's transparency requirements for new grant awards as of October 1, 2010. Information on grants subaward and executive compensation will be collected on the FSRS Web site, http://www.fsrs.gov. The FSRS Web site is part of the Integrated Acquisition Environment and is managed at GSA. This information collection requests approval of the information needed to properly register an entity in FSRS to facilitate the statutorily required reporting of Transparency Act information (DUNS number, name of entity, address, parent DUNS number, Federal Award Identification Number (FAIN), CFDA number and the Federal awarding agency of the grant).

C. Annual Reporting Burden

Respondents: 49,308.

Responses per Respondent: 1.

Hours per Response: .5 hr.

Total Burden Hours: 24,645.

Obtaining Copies of Proposals: Requesters may obtain a copy of the information collection documents from the General Services Administration, Regulatory Secretariat (MVCB), 1275 First Street, NE., Washington, DC 20417, telephone (202) 501-4755. Please cite OMB Control No. 3090-0291, FSRS Registration and Prime Awardee Entity-Related Information Reporting Requirements, in all correspondence.

Dated: January 21, 2011.
Casey Coleman,
Chief Information Officer.

[FR Doc. 2011-1750 Filed 1-26-11; 8:45 am]

BILLING CODE 6820-WY-P